DEPARTMENT OF ENERGY

Federal Energy Regulatory Commission

Combined Notice of Filings #1

Take notice that the Commission received the following electric rate filings:

Docket Numbers: ER19-2757-004.

Applicants: California Independent System Operator Corporation.

Description: Compliance filing: 2021-02-18 Notice of Withdrawal—Order No. 831 to be effective N/A.

Filed Date: 2/18/21.

Accession Number: 20210218-5124.

Comments Due: 5 p.m. ET 3/11/21.

Docket Numbers: ER20-2452-001.

Applicants: Hamilton Liberty LLC.

Description: Compliance filing: Informational Filing Pursuant to Schedule 2 of the PJM OATT & Request for Waiver to be effective N/A.

Filed Date: 2/19/21.

Accession Number: 20210219-5158.

Comments Due: 5 p.m. ET 3/12/21.

Docket Numbers: ER20-2453-002.

Applicants: Hamilton Patriot LLC.

Description: Compliance filing: Informational Filing Pursuant to Schedule 2 of the PJM OATT & Request for Waiver to be effective N/A.

Filed Date: 2/19/21.

Accession Number: 20210219-5165.

Comments Due: 5 p.m. ET 3/12/21.

Docket Numbers: ER21-293-003.

Applicants: Horizon West Transmission, LLC.

Description: Compliance filing: Horizon West Transmission, LLC Amendment to December 31 Letter Order Comp Filing to be effective 1/1/2021.

Filed Date: 2/19/21.

Accession Number: 20210219-5160.

Comments Due: 5 p.m. ET 3/12/21.

Docket Numbers: ER21-714-001.

Applicants: Indiana Crossroads Wind Farm LLC.

Description: Tariff Amendment: Supplement to Market-Based Rate Application and Revised MBR Tariff to be effective 2/21/2021.

Filed Date: 2/19/21.

Accession Number: 20210219-5095.

Comments Due: 5 p.m. ET 3/12/21.

Docket Numbers: ER21-1170-000.

Applicants: PJM Interconnection, L.L.C.

Description: § 205(d) Rate Filing: Original ISA, Service Agreement No. 5961; Queue No. AE1-226 to be effective 1/19/2021.

Filed Date: 2/18/21.

Accession Number: 20210218-5118.

Comments Due: 5 p.m. ET 3/11/21.

Docket Numbers: ER21-1171-000.

Applicants: Essential Power Newington, LLC.

Description: Baseline eTariff Filing: IROL-CIP Rate Schedule to be effective 2/18/2021.

Filed Date: 2/18/21.

Accession Number: 20210218-5119.

Comments Due: 5 p.m. ET 3/11/21.

Docket Numbers: ER21-1172-000.

Applicants: PJM Interconnection, L.L.C.

Description: § 205(d) Rate Filing: Original WMPA 5972; Queue No. AE2-062 to be effective 1/19/2021.

Filed Date: 2/18/21.

Accession Number: 20210218-5135.

Comments Due: 5 p.m. ET 3/11/21.

Docket Numbers: ER21-1173-000.

Applicants: Pacific Gas and Electric Company.

Description: Notice of Termination of Service Agreement (No. 2) with Sunrise Cogeneration and Power Company of Pacific Gas and Electric Company.

Filed Date: 2/18/21.

Accession Number: 20210218-5151.

Comments Due: 5 p.m. ET 3/11/21.

Docket Numbers: ER21-1174-000.

Applicants: PJM Interconnection, L.L.C.

Description: § 205(d) Rate Filing: Amendment to WMPA, Service Agreement No. 5729; Queue No. AF1-021 to be effective 7/9/2020.

Filed Date: 2/19/21.

Accession Number: 20210219-5010.

Comments Due: 5 p.m. ET 3/12/21.

Docket Numbers: ER21-1175-000.

Applicants: PJM Interconnection, L.L.C.

Description: Tariff Cancellation: Notice of Cancellation of WMPA, SA No. 4768; Queue No. AC1-117 to be effective 3/15/2021.

Filed Date: 2/19/21.

Accession Number: 20210219-5041.

Comments Due: 5 p.m. ET 3/12/21.

Docket Numbers: ER21-1176-000.

Applicants: Delta's Edge Solar, LLC.

Description: Baseline eTariff Filing: Baseline filing to be effective 2/20/2021.

Filed Date: 2/19/21.

Accession Number: 20210219-5063.

Comments Due: 5 p.m. ET 3/12/21.

Docket Numbers: ER21-1177-000.

Applicants: Crossett Solar Energy, LLC.

Description: Baseline eTariff Filing: Baseline filing to be effective 2/20/2021.

Filed Date: 2/19/21.

Accession Number: 20210219-5066.

Comments Due: 5 p.m. ET 3/12/21.

Docket Numbers: ER21-1178-000.

Applicants: PJM Interconnection, L.L.C.

Description: § 205(d) Rate Filing: Amendment to ISA/CSA, Service Agreement Nos. 5159 and 5189; Queue No. AB2-040 to be effective 8/8/2018.

Filed Date: 2/19/21.

Accession Number: 20210219-5070.

Comments Due: 5 p.m. ET 3/12/21.

Docket Numbers: ER21-1179-000.

Applicants: Crescent Wind LLC.

Description: Tariff Cancellation: Notice of Cancellation of Market-Based Rate Tariff to be effective 4/21/2021.

Filed Date: 2/19/21.

Accession Number: 20210219-5079.

Comments Due: 5 p.m. ET 3/12/21.

Docket Numbers: ER21-1180-000.

Applicants: New England Power Company.

Description: § 205(d) Rate Filing: Sched 20A Service Agreement with Vitol and Request for Notice Requirement Waiver to be effective 11/1/2020.

Filed Date: 2/19/21.

Accession Number: 20210219-5080.

Comments Due: 5 p.m. ET 3/12/21.

Docket Numbers: ER21-1181-000.

Applicants: Southwest Power Pool, Inc.

Description: § 205(d) Rate Filing: 3127R3 Montana-Dakota Utilities Co. NITSA NOA to be effective 2/1/2021.

Filed Date: 2/19/21.

Accession Number: 20210219-5096.

Comments Due: 5 p.m. ET 3/12/21.

Docket Numbers: ER21-1182-000.

Applicants: PJM Interconnection, L.L.C.

Description: Tariff Cancellation: Notice of Cancellation of WMPA, SA No. 4479, Queue Position No. AB1-055 to be effective 4/22/2021.

Filed Date: 2/19/21.

Accession Number: 20210219-5102.

Comments Due: 5 p.m. ET 3/12/21.

Docket Numbers: ER21-1183-000.

Applicants: Tucson Electric Power Company.

Description: § 205(d) Rate Filing: Rate Schedule No. 347, Concurrence to PNM RS No. 175 to be effective 4/21/2021.

Filed Date: 2/19/21.

Accession Number: 20210219-5105.

Comments Due: 5 p.m. ET 3/12/21.

Docket Numbers: ER21-1184-000.

Applicants: Tri-State Generation and Transmission Association, Inc.

Description: § 205(d) Rate Filing: Amendment to Service Agreement No. 876 to be effective 2/16/2021.

Filed Date: 2/19/21.

Accession Number: 20210219-5180.

Comments Due: 5 p.m. ET 3/12/21.

Docket Numbers: ER21-1185-000.

Applicants: Southwest Power Pool, Inc.

Description: Request For Limited Waiver, et al. of Southwest Power Pool, Inc.

Filed Date: 2/19/21.

Accession Number: 20210219-5188.

Comments Due: 2 p.m. ET 2/22/21.

Take notice that the Commission received the following electric reliability filings:

Docket Numbers: RD21-4-000.

Applicants: North American Electric Reliability Corporation.

Description: Petition of The North American Electric Reliability Corporation For Approval of Proposed Reliability Standard FAC-008-5—Facility Ratings.

Filed Date: 2/19/21.

Accession Number: 20210219-5097.

Comments Due: 5 p.m. ET 3/22/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 19, 2021.
Kimberly D. Bose,
Secretary.

[FR Doc. 2021-03887 Filed 2-24-21; 8:45 am]

BILLING CODE 6717-01-P